DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project: “Development and Evaluation of AIIRQ's Quality Indicators Improvement Toolkit.” In accordance with the Paperwork Reduction Act, 44 U.S.C. 3501-3520, AHRQ invites the public to comment on this proposed information collection.

This proposed information collection was previously published in the Federal Register on December 31st, 2009 and allowed 60 days for public comment. One comment was received. The purpose of this notice is to allow an additional 30 days for public comment.

DATES: Comments on this notice must be received by April 12, 2010.

ADDRESSES: Written comments should be submitted to: AHRQ's OMB Desk Officer by fax at (202) 395-6974 (attention: AHRQ's desk officer) or by e-mail at OIRA_submission@omb.eop.gov (attention: AHRQ's desk officer).

Copies of the proposed collection plans, data collection instruments, and specific details on the estimated burden can be obtained from the AHRQ Reports Clearance Officer.

FOR FURTHER INFORMATION CONTACT: Doris Lefkowitz, AHRQ Reports Clearance Officer, (301) 427-1477, or by e-mail at doris.lefkowitz@AHRQ.hhs.gov.

SUPPLEMENTARY INFORMATION:

Proposed Project

Development and Evaluation of AHRQ's Quality Indicators Improvement Toolkit

An important part of AHRQ's mission is to disseminate information and tools that can support improvement in quality and safety in the U.S. health care community. See 42 U.S.C. 299(b)(1)(F); 299a(a)(1) and (2). This proposed information collection supports that part of AHRQ's mission by developing and evaluating a toolkit that will enable hospitals to effectively use AHRQ's Quality Indicators (QIs).

AHRQ has developed sets of QIs that can be used by the Agency and others to document quality and safety conditions at U.S. hospitals. Two sets of QIs will be used in this proposed toolkit: the Inpatient Quality Indicators (IQIs) and the Patient Safety Indicators (PSIs). The IQIs contain measures of volume, mortality, and utilization for common medical conditions and major surgical procedures. The PSIs are a set of measures to screen for potentially preventable adverse events that patients may experience during hospitalization. These QIs have been previously developed and evaluated by AHRQ, and are in use at a number of hospitals throughout the country. The QIs and supportive documentation on how to work with them are posted on AHRQ's Web site at http://www.qualityindicators.ahrg.gov. Many of the QIs have been endorsed by the National Quality Forum through its consensus review process.

Values for each QI can be estimated for a given hospital by applying computations in SAS programs developed by AHRQ to the hospital's pre-existing inpatient encounter data. To identify potential areas for improving the quality and safety of the care that a hospital provides, the hospital can use these data to examine its current performance on each QI measure, changes in its performance over time, and how its performance compares to that of other hospitals. However, despite the availability of the QIs as tools to help hospitals assess their performance, many U.S. hospitals have limited experience with the use of such measurement tools, or in using quality improvement methods to improve their performance as assessed by these measures.

An alpha version of the Quality Indicators Improvement Toolkit will be developed, which then will be field tested by six hospitals. During the field test, the proposed evaluation will assess the usability of the Toolkit for hospitals, and it will examine their experiences in implementing interventions to improve their performance on the AHRQ QIs, as well as effects on trends in the hospitals' AHRQ QI values. Using results from the evaluation, the alpha Toolkit will be revised to yield a final Toolkit that will be effective in supporting hospitals' quality improvement efforts.

The development and evaluation of the Quality Indicators Improvement Toolkit will be conducted by AHRQ's contractor, the RAND Corporation, under contract number HHSA290200600017I. RAND has subcontracted with the University HealthSystem Consortium (UHC) to partner in the development of the Toolkit and field testing of it with hospitals as they use the Toolkit in carrying out initiatives designed to improve performance on the QIs.

Method of Collection

Case study research methods will be used for this qualitative study. The following four data collection instruments will be used in the evaluation:

(1) Pre/post-test interview protocol—Consisting of both open- and closed-ended questions will be administered prior to implementation of the Toolkit and again post implementation. The purpose of this data collection is to obtain data on the steps the hospitals took to implement actions to improve performance on the QIs; their plans for making process changes; and their experiences in achieving changes and perceptions regarding lessons learned that could be shared with other hospitals.

(2) Update protocol—Consisting of both open- and closed-ended questions will be administered three times during the study (quarterly during the implementation year). The purpose of this data collection is to capture longitudinal data regarding hospitals' progress in implementing changes, successes and challenges, and plans for subsequent actions. These data will include descriptive information on changes over time in the hospitals' implementation actions and how they are using the Toolkit, as well as experiential information on the perceptions of participants regarding the improvement implementation process and its effects. It also ensures the collection of information close to pertinent events, which avoids the recall bias associated with retrospective reporting of experiences.

(3) Usability testing protocol—Also consisting of both open and closed ended questions will be administered once at the end of the evaluation period. The purpose of this data collection is to gather information from the hospitals on how they used each tool in the Toolkit, the ease of use of each tool, which tools were most helpful, suggested changes to improve each tool, and suggestions for other tools to add to the Toolkit. This information will be used in the revisions of the Toolkit following the end of the field test.

(4) AHRQ QI data collection tool—Used to collect the IQI and PSI measures calculated by the hospitals both prior to implementation of the Toolkit and again post implementation. The purpose of this data collection is to determine if the hospitals' implementation actions, including use of the toolkit, had a measurable impact on the QI measures.

Estimated Annual Respondent Burden

Exhibit 1 shows the estimated annualized burden hours for the respondents' time to participate in this information collection. Three protocols will be used to collect data from respondents in interviews that will take one hour each. The pre/post-test interview protocol will be administered twice—at the beginning and end of the field-test year. The pre- test interviews will be performed as one-hour group interviews conducted with the six hospitals' implementation teams at the start of the year. At the end of the year, post-test interviews will be performed as one-hour group interviews with three of the hospitals and during site visits with the other three hospitals. At each site visit, data will be collected through one-hour interviews with the hospital's implementation team as well as through other group interviews performed separately with each of the key stakeholder groups—physicians, nurses, clerks, and others. The additional data from the stakeholder groups will allow triangulation of variations in perceptions and experiences among different groups, of which the implementation teams might not be aware.

The quarterly update protocol will be administered quarterly to 2 hospital staff members from each hospital during the year (in months 3, 6, and 9). The usability testing protocol will be administered to 4 staff members once at the end of the evaluation period. The AHRQ QI data collection tool will be used both pre- and post-implementation to collect the QI measures. The total burden is estimated to be 360 hours.

Exhibit 2 shows the estimated annualized cost burden associated with the respondents' time to participate in the evaluation. The total cost burden is estimated to be $9,886.

Exhibit 1—Estimated Annualized Burden Hours
Form name | Number of hospitals | Number of responses per hospital | Hours per response | Total burden hours
Pre/Post-Test Interview Protocol | 6 | 26 | 1 | 156
Quarterly Update Protocol | 6 | 6 | 1 | 36
Usability Testing Protocol | 6 | 4 | 1 | 24
AHRQ QI Data Collection Tool | 6 | 2 | *12 | 144
Total | 24 | NA | NA | 360
* Includes time to program and run the computer programs necessary to produce the measures.

Exhibit 2—Estimated Annualized Cost Burden for Hospitals
Form name | Number of hospitals | Total burden hours | Average hourly wage rate* | Total cost burden
Pre/Post-Interview Protocol | 6 | 156 | $27.46 | $4,284
Quarterly Update Protocol | 6 | 36 | 27.46 | 989
Usability Testing Protocol | 6 | 24 | 27.46 | 659
AHRQ QI Data Collection Tool | 6 | 144 | 27.46 | 3,954
Total | 24 | 360 | NA | 9,886
* Based upon the mean of the average wages, National Compensation Survey: Occupational wages in the United States, March 2009, “U.S. Department of Labor, Bureau of Labor Statistics.” Used as an overall average wage rate across the various types of staff involved in the quality improvements.

Estimated Annual Costs to the Federal Government

Exhibit 3 shows the estimated total and annualized cost of this project to the government. The estimated total cost for the evaluation work is $209,827 over the two-year year project, with an annualized total cost of $104,914. These costs were developed based on estimates of staff days required, to which administrative expenses are applied, and based on airfare, hotel, and per diem costs for staff travel for the site visits at the end of the evaluation.

Exhibit 3—Estimated Cost of the Evaluation
Cost component | Total cost | Annualized cost
Protocol Development | $40,278 | $20,139
Data Collection Activities | 91,104 | 45,552
Data Analysis | 45,252 | 22,626
Publication of Results | 24,370 | 12,185
Travel for Site Visits | 8,823 | 4,412
Total | 209,827 | 104,914

Request for Comments

In accordance with the above-cited Paperwork Reduction Act legislation, comments on AHRQ's information collection are requested with regard to any of the following: (a) Whether the proposed collection of information is necessary for the proper performance of AHRQ healthcare research and healthcare information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: February 24, 2010.
Carolyn M. Clancy,
Director.

[FR Doc. 2010-4948 Filed 3-10-10; 8:45 am]

BILLING CODE 4160-90-M